DEPARTMENT OF ENERGY

Federal Energy Regulatory Commission

[Project No. 2866-008]

Metropolitan Water Reclamation District of Greater Chicago; Notice of Availability of Draft Environmental Assessment

May 30, 2000.

In accordance with the National Environmental Police Act of 1969 and the Federal Energy Regulatory Commission's (Commission) regulations, 18 CFR part 380 (Order No. 486, 52 CFR 47897), the Office of Energy Projects has reviewed the application for a new license for the Lockport Hydroelectric Project, and has prepared a Draft Environmental Assessment (DEA). The project is located on the Chicago Sanitary and Ship Canal, in Will County, Illinois.

The DEA contains the staff's analysis of the potential environmental impacts of the project and concludes that licensing the project, with appropriate environmental measures, would not constitute a major federal action that would significantly affect the quality of the human environment.

Copies of the DEA are available for review in the Public Reference Room, Room 2A, of the Commission's offices at 888 First Street, NE, Washington, DC 20426. The DEA may also be reviewed on the web at http://www.ferc.fed.us/online/rims.htm (please call (202) 208-222 for assistance).

Any comments should be filed within 30 days from the date of this notice and should be addressed to David P. Boergers, Secretary, Federal Energy Regulatory Commission, 888 First Street, N.E., Washington, D.C. 20426. For further information, contact Hector M. Perez, Project Coordinator, at (202) 219-2843.

Linwood A. Watson, Jr.,
Acting Secretary.

[FR Doc. 00-13919 Filed 6-2-00; 8:45 am]

BILLING CODE 6717-01-M